DEPARTMENT OF TRANSPORTATION

Federal Aviation Administration

[Summary Notice No. PE-2005-44]

Petitions for Exemption; Summary of Petitions Received

AGENCY: Federal Aviation Administration (FAA), DOT.

ACTION: Notice of petitions for exemption received.

SUMMARY: Pursuant to FAA's rulemaking provisions governing the application, processing, and disposition of petitions for exemption part 11 of Title 14, Code of Federal Regulations (14 CFR), this notice contains a summary of certain petitions seeking relief from specified requirements of 14 CFR. The purpose of this notice is to improve the public's awareness of, and participation in, this aspect of FAA's regulatory activities. Neither publication of this notice nor the inclusion or omission of information in the summary is intended to affect the legal status of any petition or its final disposition.

DATES: Comments on petitions received must identify the petition docket number involved and must be received on or before August 16, 2005.

ADDRESSES: You may submit comments identified by DOT DMS Docket Number FAA-2005-21408 or FAA-2005-21412 by any of the following methods:

• Web site: http://dms.dot.gov. Follow the instructions for submitting comments on the DOT electronic docket site.

• Fax: 1-202-493-2251.

• Mail: Docket Management Facility; U.S. Department of Transportation, 400 Seventh Street, SW., Nassif Building, Room PL-401, Washington, DC 20590-0001.

• Hand Delivery: Room PL-401 on the plaza level of the Nassif Building, 400 Seventh Street, SW., Washington, DC, between 9 a.m. and 5 p.m., Monday through Friday, except Federal holidays.

Docket: For access to the docket to read background documents or comments received, go to http://dms.dot.gov at any time or to Room PL-401 on the plaza level of the Nassif Building, 400 Seventh Street, SW., Washington, DC, between 9 a.m. and 5 p.m., Monday through Friday, except Federal holidays.

FOR FURTHER INFORMATION CONTACT: Susan Lender (202) 267-8029 or John Linsenmeyer (202) 267-5174, Office of Rulemaking (ARM-1), Federal Aviation Administration, 800 Independence Avenue, SW., Washington, DC 20591.

This notice is published pursuant to 14 CFR 11.85 and 11.91.

Issued in Washington, DC, on July 21, 2005.
Anthony F. Fazio,
Director, Office of Rulemaking.

Petitions for Exemption

Docket No.: FAA-2005-21913.

Petitioner: Professional Aviation Maintenance Association.

Section of 14 CFR Affected: 14 CFR 65.93(a) Inspection Authorization: Renewal.

Description of Relief Sought: The Professional Aviation Maintenance Association (PAMA) requests this exemption to permit a 15-day extension from March 31 to April 15 for attendees of the PAMA convention to submit evidence of compliance with § 65.91(c)(1) through (4). PAMA requests this exemption for 10 years, through 2015.

Because of scheduling events beyond PAMA's control, the PAMA 2006 Aviation Maintenance Symposium, and PAMA's extensive technical education programming, much of which is approved training for Inspection Authorization (IA) renewal, will be held March 28-30, 2006. Many potential attendees have already expressed concern that they will not be able to attend for purposes of IA renewal because of the insufficient time to provide the evidence of their training to their respective Flight Standards District Office before the end of March. Inspection Authorization renewal training is an important reason why many maintenance professionals attend PAMA's annual Symposium.

[FR Doc. 05-14858 Filed 7-26-05; 8:45 am]

BILLING CODE 4910-13-P